DEPARTMENT OF COMMERCE

National Oceanic and Atmospheric Administration

RIN 0648-XM08

Magnuson-Stevens Act Provisions; General Provisions for Domestic Fisheries; Adjustment to Exempted Fishing Permit

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an amendment to an Exempted Fishing Permit (EFP) application submitted by the University of Maryland Eastern Shore (UMES) contains all of the required information and warrants further consideration. The Assistant Regional Administrator has made a preliminary determination that the adjusted activities authorized under this amended EFP would be consistent with the goals and objectives of the Northeast (NE) Multispecies and Monkfish Fishery Management Plans (FMPs). However, further review and consultation may be necessary before a final determination is made to reissue the EFP. Therefore, NMFS announces that the Assistant Regional Administrator proposes to recommend that an EFP be reissued that would allow one commercial fishing vessel to conduct fishing operations that are otherwise restricted by the regulations governing the fisheries of the Northeastern United States. This EFP, which would continue to enable researchers to study the effects of climate on the distribution and catch rates of monkfish, would adjust the exemptions from the NE multispecies regulations as follows: Gulf of Maine (GOM) Rolling Closure Area (RCA) I, rather than RCA III. The exemption from NE multispecies effort control measures will remain the same as with the original EFP. Regulations under the Magnuson-Stevens Fishery Conservation and Management Act require publication of this notification to provide interested parties the opportunity to comment on applications for proposed EFPs.

DATES: Comments must be received on or before December 29, 2008.

ADDRESSES: You may submit written comments by any of the following methods:

• Email: DA8-272@noaa.gov. Include in the subject line “Comments on Revised UMES Monkfish EFP .”

• Mail: Patricia A. Kurkul, Regional Administrator, NMFS, NE Regional Office, 1 Blackburn Drive, Gloucester, MA 01930. Mark the outside of the envelope “Comments on UMES monkfish EFP, DA8-272.”

• Fax: (978) 281-9135.

FOR FURTHER INFORMATION CONTACT: Emily Bryant, Fishery Management Specialist, 978-281-9244.

SUPPLEMENTARY INFORMATION: An application for an EFP amendment was submitted on October 15, 2008, by Andrea K. Johnson, Ph.D., Research Assistant Professor at UMES, for a project funded under the New England and Mid-Atlantic Fishery Management Councils' Monkfish Research Set-Aside (RSA) Program. The primary goal of this study is to investigate the influence of temperature on monkfish distribution and abundance, as well as determine age and growth patterns, spawning frequency, feeding rates, and cannibalism. This information will provide information on the biology of monkfish that could be used to enhance the management of this species.

The original EFP granted an exemption for one vessel to fish for monkfish using gillnets inside the GOM RCA III during May 2008. The vessel originally issued the EFP later decided not to participate in this project and a new vessel was issued the EFP on October 14, 2008. With this change to a new vessel, the research area was revised to reflect the new vessel owner's familiarity with monkfish fishing grounds. This EFP revision would grant an exemption for the new vessel to fish in 30-minute square number 122, rather than 137, inside the GOM RCA I during March 2009. Fishing activity is currently taking place through December 2008 and researchers would like to continue in March 2009, but will need this revised exemption to do so. It is expected that this location, within the RCA, would provide access to large monkfish and would avoid gear interactions between the research gillnet gear and trawl gear. The need to switch RCA exemptions is due to the change in location and vessel from the original research proposal. Allowing an exemption in RCA I rather than RCA III will provide consistency with the rest of the research that is being conducted in that area and will avoid further delays in the project.

The applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: December 5, 2008.
Emily H. Menashes
Acting Director, Office of Sustainable Fisheries, National Marine Fisheries Service.

[FR Doc. E8-29441 Filed 12-11-08; 8:45 am]

BILLING CODE 3510-22-S